INTERNATIONAL TRADE COMMISSION

[Investigation No. 337-TA-843]

Certain Electronic Devices Having a Retractable USB Connector; Termination of an Investigation

AGENCY: U.S. International Trade Commission.

ACTION: Notice.

SUMMARY: Notice is hereby given that the U.S. International Trade Commission has determined not to review the presiding administrative law judge's (“ALJ”) initial determination (“ID”) (Order No. 36) terminating the investigation as to the last remaining respondent, and thereby terminating the investigation.

FOR FURTHER INFORMATION CONTACT: Sidney A. Rosenzweig, Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 24, 2012, based on a complaint filed by Anu IP LLC of Longview, Texas (“Anu”), alleging a violation of section 337 by reason of the infringement of claims of U.S. Patent Nos. 6,979,210 and 7,090,515. 77 FR 31039-40 (Aug. 12, 2011). The notice of investigation named more than forty respondents. The investigation has since been terminated as to all but one respondent on the basis of withdrawal of the complaint, settlement agreement, or consent order.

On November 14, 2012, Anu moved for termination of the investigation as to respondent Option, Inc. (“Option”), formerly of Alpharetta, Georgia, on the basis of withdrawal of the complaint. Anu stated that Option has been dissolved and is no longer in existence. On November 28, 2012, the ALJ granted the motion as an ID. Order No. 36. The ALJ found termination to be in the public interest. Id. at 2. Because Option is the last remaining respondent, termination as to Option terminates the investigation.

No petitions for review of the ID were filed. The Commission has determined not to review the ID.

The authority for the Commission's determination is contained in section 337 of the Tariff Act of 1930, as amended (19 U.S.C. 1337), and in sections 210.21 and 210.42 of the Commission's Rules of Practice and Procedure (19 CFR 210.21 and 210.42).

By order of the Commission.
Issued: December 14, 2012.
Lisa R. Barton,
Acting Secretary to the Commission.

[FR Doc. 2012-30534 Filed 12-18-12; 8:45 am]

BILLING CODE 7020-02-P